DEPARTMENT OF THE INTERIOR

Bureau of Reclamation

[FES 12-23]

Final Environmental Impact Statement, Narrows Project, Sanpete County, Utah

AGENCY: Bureau of Reclamation, Interior.

ACTION: Notice of availability.

SUMMARY: We, the Bureau of Reclamation, announce the availability of the final environmental impact statement on the Narrows Project, a non-Federal dam and reservoir proposed by the Sanpete Water Conservancy District on Gooseberry Creek in Sanpete County, Utah.

DATES: We will make a decision on the proposed action 30 days or more after the Environmental Protection Agency publishes their Notice of Availability of Weekly Receipt of Environmental Impact Statements in the Federal Register. This notice, usually published on Fridays, lists all environmental impact statements filed with the Environmental Protection Agency during the preceding week. After the 30-day public review period, we will complete a Record of Decision which will explain how we arrived at our decision on the proposed action.

ADDRESSES: The final environmental impact statement is available at www.usbr.gov/uc/envdocs/index.html. To receive a copy on a compact disc send a request to Mr. Peter Crookston, Bureau of Reclamation, Provo Area Office, 302 East 1860 South, Provo, Utah 84606. See the SUPPLEMENTARY INFORMATION section for locations where copies are available.

FOR FURTHER INFORMATION CONTACT: Mr. Peter Crookston, telephone (801) 379-1152; facsimile (801) 379-1159; email pcrookston@usbr.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: Pursuant to the National Environmental Policy Act of 1969, as amended, we have prepared a final environmental impact statement (FEIS) on a proposal under which Sanpete Water Conservancy District (SWCD) would construct, operate, and maintain the Narrows Project—a proposed non-Federal water development and conveyance project funded with a variety of public and private financing and located in part on Federal lands.

The FEIS Analyzes Four Alternatives

The FEIS describes and analyzes the potential effects of four alternatives. The No Action Alternative represents the conditions of the affected area in Sanpete and Carbon counties if the project is not built. The three action alternatives represent three different versions of the Narrows Project, each differing in the size of the dam and reservoir. Three reservoir sizes were analyzed to enable the U.S. Army Corps of Engineers to determine the Least Environmentally Damaging Practicable Alternative.

Under all three action alternatives, a supplemental water supply would be developed for presently irrigated lands and for municipal and industrial water users in north Sanpete County. The alternatives would require diversion of up to 5,400 acre-feet of water annually from Gooseberry Creek drainage in the Colorado River Basin to northern Sanpete County in the Sevier River drainage basin. The water right used under the action alternatives represents about 6.6 percent of the average annual yield of the Price River above the City of Price. Under all action alternatives, the SWCD's conversion of water from irrigation to municipal and industrial use would occur in stages.

What the Preferred Alternative Does

The preferred alternative is to allow SWCD to build, operate, and maintain the largest dam with a reservoir capacity of 17,000 acre-feet of water stored behind a dam with a height of 120 feet, a crest length of 550 feet, and a reservoir surface area of 604 acres. The reservoir would produce an average yield of 5,136 acre-feet per year. In addition, it would provide an average annual supply of 4,281 acre-feet of water for 15,420 acres of farmland and 855 acre-feet of water for municipal and industrial use. Irrigation is expected to yield a third crop of alfalfa in an area where usually only two crops are harvested.

Previous Publications

The Narrows Project Supplemental Draft Environmental Impact Statement (SDEIS) was issued to the public on March 29, 2010, and we published a Notice of Availability of the SDEIS in the Federal Register on March 29, 2010 (75 FR 15458). A 63-day public review and comment period for the SDEIS ended on June 1, 2010. During the public comment period, public hearings were held in both Carbon and Sanpete counties. The FEIS contains responses to all comments received on the SDEIS.

Where to Find Copies of the FEIS

Copies of the FEIS are available at the following locations:

• Main Interior Building, Natural Resources Library, Room 1151, 1849 C Street, NW., Washington, DC 20240-0001

• Bureau of Reclamation, Denver Office Library, Denver Federal Center, Sixth and Kipling, Building 67, Room 167, Denver, Colorado 80225-0007

• Bureau of Reclamation, Upper Colorado Regional Office, 125 South State Street, Room 7418, Salt Lake City, Utah 84138-1147

• Bureau of Reclamation, Provo Area Office, 302 East 1860 South, Provo, Utah 84606

Libraries

• College of Eastern Utah, 451 East 400 North, Price, Utah 84501

• Harold B. Lee Library, Brigham Young University, 701 East University Parkway, Provo, Utah 84602-6800

• Manti Public Library, 50 South Main Street, Manti, Utah 84642

• Marriott Library, University of Utah, 295 South 1500 East, Salt Lake City, Utah 84112

• Merrill-Cazier Library, Utah State University, 3000 Old Main Hill, Logan, Utah 84322-3000

• Price Public Library, 159 East Main Street, Price, Utah 84501

• Salt Lake City Public Library, 210 East 400 South, Salt Lake City, Utah 84111

• Snow College, 150 East College Avenue, Ephraim, Utah 84627

• Stewart Library, Weber State University, 2901 University Circle, Ogden, Utah 84408

Public Disclosure

Before including your address, phone number, email address, or other personal identifying information in any communication, you should be aware that your entire comment—including your personal identifying information—may be made publicly available at any time. While you can ask us in your communication to withhold your personal identifying information from public review, we cannot guarantee that we will be able to do so.

Dated: September 28, 2012.
Brent Rhees,
Deputy Regional Director—Upper Colorado Region, Bureau of Reclamation.

[FR Doc. 2012-26912 Filed 11-2-12; 8:45 am]

BILLING CODE 4310-MN-P